DEPARTMENT OF HEALTH AND HUMAN SERVICES

Substance Abuse and Mental Health Services Administration

Request for Information: SAMHSA's Role in Possible Agency Actions Regarding Mental Health and Substance Use Wellbeing in the Context of Climate Change and Health Equity

AGENCY: Substance Abuse and Mental Health Services Administration (SAMHSA), Department of Health and Human Services (HHS).

ACTION: Notice of request for information.

SUMMARY: SAMHSA seeks input from members of the public about how it can best address the behavioral health impacts of climate change and health equity considerations. Behavioral health includes mental health conditions and substance use disorders. SAMHSA specifically seeks input on suggested priorities, resources, partners and collaborating agencies and organizations.

DATES: Comments on this notice must be received by October 31, 2022.

ADDRESSES: Please submit all responses via email to ClimateChange@SAMHSA.HHS.gov as a Word document, Portable Document Format (PDF) or in the body of an email. Please include “Request for Information: SAMHSA's Role in Climate Change” in the subject line of the message.

FOR FURTHER INFORMATION CONTACT: Mitchell Berger, Public Health Advisor, Telephone: 240-276-1757, Email: Mitchell.Berger@SAMHSA.HHS.gov, or Maggie Jarry, Emergency Management Specialist, Email: Maggie.Jarry@samhsa.hhs.gov.

SUPPLEMENTARY INFORMATION: In January 2021, President Biden signed Executive Order 14008, Tackling the Climate Crisis at Home and Abroad. Recognizing that “we face a climate crisis that threatens our people and communities, public health and economy, and, starkly, our ability to live on planet Earth,” the Order called for a “government-wide approach” to climate change and development of agency action plans to “bolster adaptation and increase resilience to the impacts of climate change.” ¹

President Biden also in January 2021 signed Executive Order 13985, Advancing Racial Equity and Support for Underserved Communities Through the Federal Government, which called upon Agencies to take steps to enhance programs for underserved communities.²

In August 2021, HHS established the Office of Climate Change and Health Equity (OCCHE) as part of the Office of the Assistant Secretary for Health. OCCHE priorities include supporting efforts to reduce greenhouse gas emissions, partnering with other government agencies and the nonprofit and private sectors and supporting efforts to address health disparities.

Consistent with Administration priorities, HHS in 2021 developed a Climate Action Plan emphasizing the Department's proactive response to climate change.³

SAMHSA leads public health efforts to advance the behavioral health of the nation. SAMHSA's mission is to reduce the impact of substance abuse and mental illness on America's communities. SAMHSA accomplishes this mission by working closely with other federal partners, state, local, tribal, and territorial governments, health care providers, academic institutions, persons with lived experience and family members and caregivers to promote mental health, prevent substance misuse, and provide treatments and supports to foster recovery. SAMHSA works closely with such partners as the Administration for Strategic for Preparedness and Response, Health Resources and Services Administration, Centers for Medicare & Medicaid Services, Centers for Disease Control and Prevention and other agencies to expand access to behavioral health services, ensure compliance with the Mental Health Parity and Addiction Equity Act, and provide services to vulnerable populations.

SAMHSA also supports such programs as the Substance Abuse and Mental Health Block Grants, Disaster Technical Assistance Center, Projects for Assistance in Transition from Homelessness emphasizing services for vulnerable populations. Through these and other grants and activities supported by SAMHSA's Office of Behavioral Health Equity and Office of Tribal Affairs and Policy, SAMHSA, consistent with the Administration's January 2021 Executive Orders, works to ensure disadvantaged and underserved communities and individuals experiencing behavioral health conditions are supported.

Increasingly, climate change is impacting, directly and indirectly, clients, providers, caregivers, and communities, and in particular, persons with behavioral health conditions. For instance, climate change may increase the likelihood of extreme weather events, such as heatwaves, that adversely impact persons with psychiatric conditions.⁴ Hurricanes may disrupt access to and participation in behavioral health treatment and recovery supports for people with substance use and/or mental disorders. For instance, hurricanes may disrupt access to medications or increase anxiety, depression, and substance use.5 6 Hurricanes may also disrupt access to the SAMHSA identified four major dimensions of recovery—health, home, purpose, and community. In addition, growing numbers of youth and others are experiencing heightened anxiety related to current and potential impacts of climate change. Climate emergencies, such as droughts, also may lead to loss of community cohesion, depopulation, loss of natural resources, and loss of economic opportunities.⁷ Under-resourced populations are among those most impacted by climate change because of their inadequate access to healthy foods, lack of stable housing and healthcare barriers.⁸

SAMHSA programs, along with those of other HHS and federal agencies, are working to address these impacts. For instance, SAMHSA participates in the National Integrated Heat Health Information System, which works to mitigate the health impacts of extreme heat and supports the recently launched website, Heat.gov. In collaboration with the Federal Emergency Management Agency, SAMHSA also supports the Crisis Counseling Assistance and Training Program, which provides outreach and psychosocial support following disasters.

Consistent with its mission and the Administration's focus on climate change and health equity, SAMHSA seeks input on how its programs, technical assistance and training, and other resources can support clients, providers, family members and communities in confronting the impacts of climate change. Specifically, SAMHSA seeks input on the following questions:

A. What should SAMHSA's top priorities be with respect to climate change and behavioral health? What are current strengths or gaps in SAMHSA's work in this area?

B. What should SAMHSA's top priorities be to ensure behavioral health equity with respect to climate change?

C. Which population(s) are most vulnerable to the behavioral health impact(s) of climate change? How can SAMHSA communicate with such population(s) and others to support their preparedness for the behavioral health impact(s) of climate change?

D. In thinking about behavioral health, what are the top lessons learned from past climate-related emergencies and natural disasters, such as recent or past hurricanes, heat waves, wildfires, or other events?

E. What peer-reviewed articles, papers, toolkits, listservs or other resources related to climate change should SAMHSA highlight in its work with states, local, tribal and territorial health authorities, behavioral health providers, grant recipients, national and local stakeholder organizations, and the general public?

F. Should SAMHSA programs highlight the importance of climate change to its grant recipients? If so, how?

G. What barriers exist in SAMHSA's programs or regulations that make it difficult to prepare for, mitigate, respond to or recover from the impacts of climate change on mental health or substance use disorders?

H. What steps should SAMHSA take to help states, local, tribal and territorial health authorities, grant recipients and stakeholders, behavioral health providers, national and local stakeholder organizations, and the general public address the impacts of climate change and the needs of underserved populations?

I. Can SAMHSA promote behavioral health equity by addressing intergenerational trauma resulting from climate change? If so, how?

J. How can SAMHSA support access to behavioral health and climate change resources and supports for future generations?

K. How can SAMHSA effectively collaborate with governmental and non-governmental partners to facilitate adaption to current and future climate change impacts?

L. What research should be prioritized to build the evidence base on how climate change affects mental health and substance use disorder outcomes?

Endnotes

¹ 86 FR 7619 (2021).

² 86 FR 7009 (2021).

³ HHS Climate Action Plan, Sept. 2021, https://www.hhs.gov/sites/default/files/hhs-climate-action-plan-9-28-2021.pdf.

⁴ See e.g., Disaster Behavioral Health in an Era of Climate Change, Dialogue, 2022; 17(3), https://www.samhsa.gov/sites/default/files/dtac-dialogue-vol-17-issue-3.pdf; Mental Health and Our Changing Climate, 2021 Edition, https://ecoamerica.org/mental-health-and-our-changing-climate-2021-edition/; N. Obradovich and K. Minor, Identifying and Preparing for the Mental Health Burden of Climate Change, JAMA Psychiatry 2022 Apr 1;79(4):285-286. doi: 10.1001/jamapsychiatry.2021.4280; R. Thompson et. al., Associations between high ambient temperatures and heat waves with mental health outcomes: a systematic review. Public Health. 2018 Aug;161:171-191. doi: 10.1016/j.puhe.2018.06.008. Epub 2018 Jul 12. PMID: 30007545; D. Dodgen et. al., 2016: Ch. 8: Mental Health and Well-Being. The Impacts of Climate Change on Human Health in the United States: A Scientific Assessment. U.S. Global Change Research Program, Washington, DC, 217-246. http://dx.doi.org/10.7930/J0TX3C9H.

⁵ K. Bevilacqua et. al. Understanding Associations Between Hurricane Harvey Exposure and Mental Health Symptoms Among Greater Houston-Area Residents. Disaster Med Public Health Prep. 2020 Feb;14(1):103-110. doi: 10.1017/dmp.2019.141. PMID: 32019618; JM Shultz and S. Galea, Mitigating the Mental and Physical Health Consequences of Hurricane Harvey. JAMA. 2017;318(15):1437-1438. doi:10.1001/jama.2017.14618; E.A. Storch et. al., Psychiatric Diagnoses and Medications for Hurricane Harvey Sheltered Evacuees, Community Mental Health Journal, 2019; 55 (7): 1099-1102. doi: 10.1007/s10597-019-00378-9.

⁶ See e.g., L. Elliott et al., Disaster preparedness among opioid treatment programs: Policy recommendations from state opioid treatment authorities. International Journal of Disaster Risk Reduction, 2017; 23: 152-159. doi.org/10.1016/j.ijdrr.2017.05.001; A.R. Griffin, et. al., A Crisis Within a Crisis: The Extended Closure of an Opioid Treatment Program After Hurricane Sandy. Journal of Drug Issues, 2018; 48(4), 536-545. doi.org/10.1177/0022042618779541; H. Matusow et al., Challenges to Opioid Treatment Programs After Hurricane Sandy: Patient and Provider Perspectives on Preparation, Impact, and Recovery. Substance Use & Misuse, 2018; 53(2), 206-219. https://doi.org/10.1080/10826084.2016.1267225; PJ Joudrey et. al., Assessment of Community-Level Vulnerability and Access to Medications for Opioid Use Disorder, JAMA Network Open. 2022;5(4):e227028. doi:10.1001/jamanetworkopen.2022.7028.

⁷ H. Vins et. al. The mental health outcomes of drought: a systematic review and causal process diagram. Int J Environ Res Public Health. 2015;12(10):13251-13275. doi: 10.3390/ijerph121013251. LA Palinkas and M. Wong, M. Global climate change and mental health. Current Opinion in Psychology, 2020; 32, 12-16. https://doi.org/10.1016/j.copsyc.2019.06.023.

⁸ See e.g., Behavioral Health Equity. https://www.samhsa.gov/behavioral-health-equity.

How To Submit a Response

Responses will be accepted through October 31, 2022. Responses must be emailed to ClimateChange@SAMHSA.HHS.gov. Please include “Request for Information: SAMHSA's Role in Climate Change” in the subject line.

Responders are free to address any or all the questions listed above. Please identify the question or question(s) to which you are responding. Responses also may address concerns or issues not identified above.

The submitted information will be reviewed by SAMHSA and HHS staff. However, individual comments may not be acknowledged by SAMHSA due to the volume of comments received.

Responses to this RFI are entirely voluntary and may be submitted anonymously. Please do not include any personally identifiable information or any information that you do not wish to make public. Proprietary, classified, confidential, or sensitive information should not be included in your response.

SAMHSA will use the information submitted in response to this RFI at its discretion. SAMHSA reserves the right to use any submitted information on public websites, in reports, in summaries of the state of the science, in any possible resultant solicitation(s), grant(s), contract(s) or cooperative agreement(s), or in the development of future funding opportunity announcements.

This RFI is for informational and planning purposes only and is not a solicitation for applications or an obligation on the part of the Government to provide support for any ideas identified in response to it. Please note that the Government will not pay for the preparation of any information submitted or for use of that information.

Carlos Graham,
Reports Clearance Officer.

[FR Doc. 2022-18834 Filed 8-30-22; 8:45 am]

BILLING CODE P